LEGAL SERVICES CORPORATION

Sunshine Act Meeting of the Board of Directors Provision for the Delivery of Legal Services Committee

Time and Date: The Provision for the Delivery of Legal Services Committee of the Legal Services Corporation Board of Directors will meet January 30, 2004. The meeting will begin at 2:30 p.m. and continue until completion of the Committee's agenda.

Location: The Melrose Hotel, 2430 Pennsylvania Avenue, NW., Washington, DC 20037.

Status of Meeting: Open.

Matters To Be Considered:

Open Session

1. Approval of agenda.

2. Approval of the minutes of the Committee's meeting of November 21, 2003.

3. Presentations on Quality in Legal Services:

a. Presentation by Randi Youells, LSC Vice President for Programs.

b. Presentations by Jeanne Charn, Director, Bellow-Sacks Access to Civil, Legal Services Project, Harvard Law School.

c. Presentation by Lillian Johnson, Executive Director, Community Legal Services (AZ).

d. Presentation by Alan Houseman, Executive Director, The Center for Law and Social Policy.

e. Presentation by Colline Meek, Executive Director, Oklahoma Indian Legal Services.

4. Consider and act on other business.

5. Public comment.

6. Consider and act on adjournment of meeting.

FOR FURTHER INFORMATION CONTACT: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: January 22, 2004.
Victor M. Fortuno,
Vice President for Legal Affairs, General Counsel & Corporate Secretary.

[FR Doc. 04-1777 Filed 1-23-04; 11:14 am]

BILLING CODE 7050-01-P